DEPARTMENT OF HEALTH AND HUMAN SERVICES

Agency for Healthcare Research and Quality

National Healthcare Disparities Report Measures and Candidate Data Sets—Request for Nominations

AGENCY: The Agency for Healthcare Research and Quality (AHRQ), HHS.

ACTION: Request for Nominations.

SUMMARY: AHRQ invites nominations of measures and candidate data sets for inclusion in the National Healthcare Disparities Report, (NHDR).

DATES: Nominations should be submitted by August 5, 2002 in order to be considered for the NHDR. AHRQ will not reply to individual nominations, but will consider all nominations during the report development process.

ADDRESSES: The nominations should be submitted to Sari Siegel, Center for Primary Care Research, AHRQ, 6010 Executive Boulevard, Suite 201, Rockville, MD 20852.

FOR FURTHER INFORMATION CONTACT: Sari Siegel, Center for Primary Care Research, AHRQ, 6010 Executive Boulevard, Suite 200, Rockville, MD 20852. Phone: (301) 5946373; FAX: (301) 5943721. E-mail: ssiegel@ahrq.gov.

Arrangement for Public Inspection: All nominations will be available for public inspection at the Center for Primary Care Research, telephone (301) 594-6373, weekdays between 8:30 a.m. and 5 p.m. (Eastern time).

SUPPLEMENTARY INFORMATION:

1. Background

In FY 2003, AHRQ is required to submit to the Congress the first annual report on prevailing disparities in health care. AHRQ's authorizing legislation requires that the Director prepare and annually submit to the Congress a report regarding prevailing disparities in health care delivery as it relates to racial factors and socioeconomic factors in priority populations. The legislation further specifies that priority populations include: Low income groups; minority groups; women; children; the elderly; and individuals with special health care needs, including individuals with disabilities and individuals who need chronic care or end-of-life care. The first NHDR will focus on health care disparities for these groups compared to other Americans with respect to access to and quality of care.

This effort will be implemented in partnership with other Agency and Department projects to ensure synergy with existing efforts, including, Healthy People 2010, HHS survey integration priorities and the AHRQ National Healthcare Quality Report. The report will provide answers on a national basis to critical questions about disparities in health care and will permit the development of a more complete picture of health care in America, including who has access to care and how good is the care received. The NHDR provides an important opportunity for the Department of Health and Human Services to further its long-term commitment to identifying and reducing avoidable disparities in health care.

2. Purpose

The purpose of this Federal Register notice is to encourage submission of measures and candidate data sets for inclusion in the NHDR. The AHRQ will review nominations and supporting information and determine which measures and data sets will be included in the NHDR, seeking additional information as appropriate.

Dated: May 29, 2002.
Carolyn M. Clancy,
Acting Director.

[FR Doc. 02-14002 Filed 6-4-02; 8:45 am]

BILLING CODE 4160-90-M